DEPARTMENT OF ENERGY

Federal Energy Regulatory Commission

[Docket No. RP00-340-007]

Gulf South Pipeline Company, LP; Notice of Compliance Filing

June 3, 2002.

Take notice that on May 23, 2002, Gulf South Pipeline Company, LP (Gulf South) tendered for filing as part of its FERC Gas Tariff, Sixth Revised Volume No. 1, the tariff sheets listed on Attachment A to the filing, to be effective 30 days after an order on rehearing, and the tariff sheets listed on Attachment B to the filing, to be effective four months after an order on rehearing.

Gulf South states that it has reviewed the protests filed by United Municipal Distributors Group, Reliant Energy—Entex, and Atmos Energy—Louisiana, each filed with the Commission on April 29, 2002. Gulf South states that it in general agrees with the protests and this filing is made to implement modifications as provided in the protests to Gulf South's April 15, 2002 compliance filing.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14423 Filed 6-7-02; 8:45 am]

BILLING CODE 6717-01-P